DEPARTMENT OF HOMELAND SECURITY

Coast Guard

33 CFR Part 117

[Docket No. USCG-2011-1160]

Drawbridge Operation Regulation; Gulf Intracoastal Waterway, LA

AGENCY: Coast Guard, DHS.

ACTION: Notice of temporary deviation from regulations.

SUMMARY: The Commander, Eighth Coast Guard District, has issued a temporary deviation from the regulation governing the operation of the SR 384 (Grand Lake) pontoon bridge across the Gulf Intracoastal Waterway, mile 231.4 West of Harvey Locks, at Grand Lake, Cameron Parish, Louisiana. The deviation is necessary to allow for the safe movement of the increased vehicular traffic crossing the bridge due to another bridge in the area being temporarily removed from service. This deviation allows the bridge to remain closed to navigation during the morning and evening rush hours Monday through Saturday for three months.

DATES: This deviation is effective from 6:30 a.m. on Monday, January 9, 2012 until 5 p.m. on Friday, March 30, 2012.

ADDRESSES: Documents mentioned in this preamble as being available in the docket are part of docket USCG-2011-1160 and are available online by going to http://www.regulations.gov, inserting USCG-2011-1160 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email David Frank, Bridge Administration Branch; telephone (504) 671-2128, email David.m.frank@uscg.mil. If you have questions on viewing the docket, call Renee V. Wright, Program Manager, Docket Operations, telephone (202) 366-9826.

SUPPLEMENTARY INFORMATION: The Louisiana Department of Transportation and Development (LDOTD) has requested a temporary deviation from the operating schedule for the Grand Lake Pontoon Bridge across the Gulf Intracoastal Waterway, mile 231.5 west of Harvey Lock (WHL), at Grand Lake, Cameron Parish, Louisiana. The deviation will allow the bridge to remain closed to navigation from 6:30 a.m. until 8 a.m. and from 3 p.m. until 5 p.m. Monday through Friday beginning on Monday, January 9, 2012 and continuing until Friday, March 30, 2012. The purpose of the deviation is to allow for increased vehicular traffic to safely cross the bridge during the morning and evening rush hours. LDOTD is temporarily removing the Black Bayou Pontoon Bridge from service to conduct repairs to the barge. The bridge is located six miles upstream from the Grand Lake Bridge and is the only other vehicular crossing over the Gulf Intracoastal Waterway.

The pontoon bridge has no vertical clearance in the closed-to-navigation position. The bridge normally opens to pass navigation an average of 1005 times a month. In accordance with 33 CFR 117.5, the bridge opens on signal for the passage of vessels. The bridge will be able to open for emergencies during the closure period.

Navigation on the waterway consists mainly of tugs with tows and some fishing vessels. The delay of up to four hours for six weeks will not have a significant effect on these vessels. No practical alternate route is readily available. Notices will be published in the Eighth Coast Guard District Local Notice to Mariners and will be broadcast via the Coast Guard Broadcast Notice to Mariners System.

In accordance with 33 CFR 117.35(c), this work will be performed with all due speed in order to return the bridge to normal operation as soon as possible. This deviation from the operating regulations is authorized under 33 CFR 117.35.

Dated: December 20, 2011.
David M. Frank,
Bridge Administrator.

[FR Doc. 2012-170 Filed 1-9-12; 8:45 am]

BILLING CODE 9110-04-P